DEPARTMENT OF HOUSING AND URBAN DEVELOPMENT

[Docket No. FR-7038-N-10]

60-Day Notice of Proposed Information Collection: Comprehensive Listing of Transactional Documents for Mortgagors, Mortgagees and Contractors; Federal Housing Administration (FHA) Healthcare Facility Documents: Proposed Revision of Information Collection; OMB Control No.: 2502-0605

AGENCY: Office of the Assistant Secretary for Housing—Federal Housing Commissioner, HUD.

ACTION: Notice.

SUMMARY: HUD is seeking approval from the Office of Management and Budget (OMB) for the revision of OMB Collection 2502-0605. HUD is proposing to remove from the collection Form HUD-90011t-ORCF, Lender Narrative—Operating Loss Loan Section 232/223(d)—COVID. All other forms currently approved in OMB Collection 2502-0605 remain unchanged and remain under the current expiration cycle of June 31, 2022. In accordance with the Paperwork Reduction Act, HUD is requesting comment from all interested parties on the proposed collection of information. The purpose of this notice is to allow for 60 days of public comment.

DATES: Comments Due Date: September 7, 2021.

ADDRESSES: Interested persons are invited to submit comments regarding this notice. Communications must refer to the above docket number and title. There are two methods for submitting public comments:

1. Submission of Comments by Mail. Comments may be submitted by mail to the Regulations Division, Office of General Counsel, Department of Housing and Urban Development, 451 7th Street SW, Room 10276, Washington, DC 20410-0500.

2. Electronic Submission of Comments. Comments may be submitted electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified.

FOR FURTHER INFORMATION CONTACT: John M. Hartung, Director, Policy, Risk Management and Lender Relations Division, Office of Residential Care Facilities, Office of Healthcare Programs, Office of Housing, U.S. Department of Housing and Urban Development, 1222 Spruce Street, Room 3.203, St. Louis, MO 63103-2836; telephone (314) 418-5238 (this is not a toll-free number). Persons with hearing or speech impairments may access this number through TTY by calling the toll-free Federal Relay Service at (800) 877-8339.

Copies of available documents submitted to OMB may be obtained from Ms. Pollard.

SUPPLEMENTARY INFORMATION: This notice informs the public that HUD is seeking approval from OMB for a revision to an information collection. HUD is revising the information collection to remove Form HUD-90011t-ORCF, which was approved for use under the temporary Operating Loss Loan Section 232/223(d)—COVID program. The temporary Operating Loss Loan Section 232/223(d)—COVID program expires on August 31, 2021.

A. Overview of Information Collection

Title of Information Collection: Comprehensive Listing of Transactional Documents for Mortgagors, Mortgagees and Contractors; Federal Housing Administration (FHA) Healthcare Facility Documents:

OMB Approval Number: 2502-0605.

OMB Expiration Date: August 31, 2021.

Type of Request: Revision of currently approved collection 2502-0605.

Form Number: HUD-9001-ORCF, HUD-9001a-ORCF, HUD-9001b-ORCF, HUD-9001c-ORCF, HUD-9001d-ORCF, HUD-9001e-ORCF, HUD-9001f-ORCF, HUD-9001g-ORCF, HUD-9001h-ORCF, HUD-9001i-ORCF, HUD-9002-ORCF, HUD-9003-ORCF, HUD-9004-ORCF, HUD-9005-ORCF, HUD-9005a-ORCF, HUD-9006-ORCF, HUD-9007-ORCF, HUD-9007a-ORCF, HUD-9009-ORCF, HUD-90010-ORCF, HUD-90011-ORCF, HUD-9444-ORCF, HUD-90012-ORCF, HUD-90013-ORCF, HUD-90014-ORCF, HUD-90015-ORCF, HUD-90016-ORCF, HUD-90017-ORCF, HUD-90018-ORCF, HUD-90021-ORCF, HUD-9442-ORCF, HUD-90023-ORCF, HUD-91123-ORCF, HUD-91124-ORCF, HUD-91125-ORCF, HUD-91127-ORCF, HUD-91129-ORCF, HUD-92328-ORCF, HUD-92403-ORCF, HUD-92408-ORCF, HUD-92415-ORCF, HUD-92437-ORCF, HUD-92441-ORCF, HUD-92441a-ORCF, HUD-92442-ORCF, HUD-92448-ORCF, HUD-92450-ORCF, HUD-92452-ORCF, HUD-92452A-ORCF, HUD-92455-ORCF, HUD-92456-ORCF, HUD-92479-ORCF, HUD-92485-ORCF, HUD-92554-ORCF, HUD-93305-ORCF, HUD-95379-ORCF, HUD-2-ORCF, HUD-935.2D-ORCF, HUD-941-ORCF, HUD-9445-ORCF, HUD-9839-ORCF, HUD-90022-ORCF, HUD-90024-ORCF, HUD-91116-ORCF, HUD-91126-ORCF, HUD-91130-ORCF, HUD-92000-ORCF, HUD-92264a-ORCF, HUD-92434-ORCF, HUD-90020-ORCF, HUD-92322-ORCF, HUD-92211-ORCF, HUD-92331-ORCF, HUD-92333-ORCF, HUD-92335-ORCF, HUD-92337-ORCF, HUD-92339-ORCF, HUD-92340-ORCF, HUD-92341-ORCF, HUD-92342-ORCF, HUD-2205A-ORCF, HUD-91110-ORCF, HUD-91111-ORCF, HUD-91112-ORCF, HUD-91118-ORCF, HUD-91710-ORCF, HUD-92023-ORCF, HUD-92070-ORCF, HUD-92071-ORCF, HUD-92223-ORCF, HUD-92323-ORCF, HUD-92330-ORCF, HUD-92330A-ORCF, HUD-92420-ORCF, HUD-92435-ORCF, HUD-92466-ORCF, HUD-92466A-ORCF, HUD-92468-ORCF, HUD-94000-ORCF, HUD-94000-ORCF-ADD, HUD-94000B-ORCF, HUD-94001-ORCF, HUD-94001-ORCF-RI, HUD-9443-ORCF, HUD-91071-ORCF, HUD-91128-ORCF, HUD-92412-ORCF, HUD-92414-ORCF, HUD-92464-ORCF, HUD-92476-ORCF, HUD-92476B-ORCF, HUD-92476C-ORCF, HUD-91117-ORCF, HUD-91725-ORCF, HUD-91725-INST-ORCF, HUD-91725-CERT-ORCF, HUD-92325-ORCF, HUD-1044-D-ORCF, HUD-2537-ORCF, HUD-2747-ORCF, HUD-9250-ORCF, HUD-9807-ORCF, HUD-90019-ORCF, HUD-90029-ORCF, HUD-90030-ORCF, HUD-90031-ORCF, HUD-90032-ORCF, HUD-90033-ORCF, HUD-92080-ORCF, HUD-92117-ORCF, HUD-92228-ORCF, HUD-92266-ORCF, HUD-92266A-ORCF, HUD-92266B-ORCF, HUD-92417-ORCF, HUD-93332-ORCF, HUD-93333-ORCF, HUD-93334-ORCF, HUD-93335-ORCF, HUD-93479-ORCF, HUD-93480-ORCF, HUD-93481-ORCF, HUD-93486-ORCF, HUD-91116A-ORCF, HUD-92211A-ORCF, HUD-92323A-ORCF, HUD-92333A-ORCF, HUD-92338-ORCF, HUD-92340A-ORCF, HUD-92420A-ORCF, HUD-92434A-ORCF, HUD-92440-ORCF, HUD-92467-ORCF, HUD-92467A-ORCF, HUD-94000A-ORCF, HUD-94001A-ORCF.

Description of the need for the information and proposed use: The issuance of this notice is modeled on the public review and input process that HUD utilized in the establishment of the healthcare facility documents for Section 232 of the National Housing Act (Section 232) program. On July 5, 2019, at 78 FR 16279, after solicitation of comment, HUD published in the Federal Register a notice that announced the approval of the healthcare facility documents under the Paperwork Reduction Act of 1995 (44 U.S.C. 3501-3520) (PRA) and an assignment of a control number, 2502-0605, by the Office of Management and Budget (OMB).

Respondents (i.e., affected public): 5,461.

Estimated Number of Respondents: 5,461.

Estimated Number of Responses: 26,225.

Frequency of Response: 708.

Average Hours per Response: 5.21.

Total Estimated Burden: 50,727.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Janet M. Golrick,
Acting, Chief of Staff for the Office of Housing Federal Housing Administration.

[FR Doc. 2021-14322 Filed 7-2-21; 8:45 am]

BILLING CODE 4210-67-P